DEPARTMENT OF COMMERCE

INTERNATIONAL TRADE ADMINISTRATION

[A-580-844]

Steel Concrete Reinforcing Bars From the Republic of Korea: Notice of Final Results and Final Partial Rescission of Antidumping Duty Administrative Review

AGENCY: Import Administration, International Trade Administration, Department of Commerce.

ACTION: Notice of final results and final partial rescission of antidumping duty administrative review.

SUMMARY: The Department of Commerce (the Department) is rescinding, in part, the second antidumping duty administrative review of steel concrete reinforcing bar (Rebar) from the Republic of Korea (Korea) because Dongkuk Steel Mill Co. Ltd. (DSM), INI Steel, Korea Iron and Steel Co. Ltd. (KISCO), and Kosteel Co., Ltd. (Kosteel) did not ship subject merchandise to the United States during the period of review. In addition, we continue to determine that the application of total adverse facts available (AFA) is warranted for Dongil Industries Co. Ltd. (Dongil) and Hanbo Iron & Steel Co. (Hanbo). The period of review (POR) is September 1, 2002, through August 31, 2003.

EFFECTIVE DATE: September 9, 2004.

FOR FURTHER INFORMATION CONTACT: Sam Zengotitabengoa or Mark Manning, Office 4, Office of AD/CVD Enforcement, Import Administration, International Trade Administration, U.S. Department of Commerce, 14th Street and Constitution Avenue, NW., Washington, DC 20230; telephone (202) 482-4195 or (202) 482-5253, respectively.

SUPPLEMENTARY INFORMATION:

Scope of the Order

The product covered by this administrative review is all rebar sold in straight lengths, currently classifiable in the Harmonized Tariff Schedule of the United States (HTSUS) under item number 7214.20.00 or any other tariff item number. Specifically excluded are plain rounds (i.e., non-deformed or smooth bars) and rebar that has been further processed through bending or coating. The HTSUS subheadings are provided for convenience and customs purposes. The written description of the scope of this proceeding is dispositive.

Background

On September 2, 2003, the Department published a notice of opportunity to request the second administrative review of this order. See Antidumping or Countervailing Duty Order, Finding, or Suspended Investigation; Opportunity To Request Administrative Review, 68 FR 52181 (September 2, 2003). On September 30, 2003, in accordance with 19 CFR 351.213(b), the petitioner requested an administrative review of the following six manufacturers/exporters of rebar from Korea: Dongil, DSM, Hanbo, INI Steel, KISCO, and Kosteel. On October 24, 2003, the Department published the notice of initiation of this administrative review, covering the POR. See Initiation of Antidumping and Countervailing Duty Administrative Reviews, 68 FR 60910 (October 24, 2003). DSM, INI Steel, KISCO, and Kosteel notified the Department that they had no sales or shipments of subject merchandise in the United States during the POR. The Department obtained data from U.S. Customs and Border Protection (CBP) that supported their claims of no entries during the POR. On June 8, 2004, the Department published the notice of preliminary results, and preliminary rescission of DSM, INI Steel, KISCO, and Kosteel. See Steel Concrete Reinforcing Bar From The Republic of Korea: Notice of Preliminary Results and Preliminary Rescission, in Part, of Antidumping Duty Administrative Review, 69 FR 31961 (June 8, 2004) (Preliminary Results). Because Dongil and Hanbo failed to respond to the Department's October 22, 2004, questionnaire and May 11, 2004, letter, the Department preliminarily found that the application of total AFA was warranted. (See Preliminary Results.) We provided all interested parties the opportunity to comment on our Preliminary Results. We received no comments.

Partial Rescission of Review

As mentioned above, we received no comments from interested parties on our preliminary decision to partially rescind the review. Since the record evidence indicates that DSM, INI Steel, KISCO, and Kosteel did not have sales or shipments of subject merchandise during the POR, in accordance with 19 CFR 351.213(d)(3) and consistent with our practice, we are rescinding this review for DSM, INI Steel, KISCO, and Kosteel because they had no shipments. See e.g., Polychloroprene Rubber From Japan: Notice of Rescission of Antidumping Duty Administrative Review, 66 FR 45005 (August 27, 2001).

Facts Available

Because Dongil and Hanbo failed to respond to the Department's October 22, 2003, questionnaire and May 11, 2004, letter, the Department preliminarily found that the application of total AFA was warranted. We received no comments from interested parties regarding our preliminary application of total AFA. Therefore, for these final results, we are continuing to apply total AFA exactly as described in the Preliminary Results.

Final Results of Review

As a result of our review, we continue to determine the following weighted-average dumping margins exist for the period September 1, 2002, through August 31, 2003:

Manufacturer/exporter | Weighted-average margin (percentage)
Dongil Industries Co., Ltd | 102.28
Hanbo Iron & Steel Co., Ltd | 102.28

Cash Deposit Rates

The following cash deposit requirements will be effective upon completion of the final results of this administrative review for all shipments of rebar from Korea entered, or withdrawn from warehouse, for consumption on or after the publication date of the final results of this administrative review, as provided by section 751(a)(1) of the Tariff Act of 1930, as amended (the Act): (1) The cash deposit for Dongil and Hanbo will be the rate established in the final results of this review; (2) for previously reviewed or investigated companies not listed above, the cash deposit rate will continue to be the company-specific rate published for the most recent review period; (3) if the exporter is not a firm covered in this review, a prior review, or the less-than-fair-value (LFTV) investigation, but the manufacturer is, the cash deposit rate will be the rate established for the most recent period for the manufacturer of the subject merchandise; and (4) the cash deposit rate for all other manufacturers or exporters will continue to be 22.89 percent, the “all others” rate made effective by the LTFV investigation. See Notice of Final Determination of Sales at Less Than Fair Value: Steel Concrete Reinforcing Bars From the Republic of Korea, 66 FR 33526 (June 22, 2001). These required cash deposit rates shall remain in effect until publication of the final results of the next administrative review.

Duty Assessments

The Department shall determine, and CBP shall assess, antidumping duties on all appropriate entries. According to 19 CFR 351.212(b)(1), the Department normally will calculate an assessment rate for each importer of subject merchandise covered by the review by dividing the dumping margin found on the subject merchandise examined by the entered value of such merchandise for normal customs duty purposes. In the instant review, for the respondents receiving dumping rates based upon AFA, the Department will instruct CBP to liquidate entries according to the AFA ad valorem rate. For any shipments by an exporter not identified in this review but entered under the cash deposit rates for DSM, INI Steel, KISCO, and Kosteel, the respondents for which this review is being rescinded, the Department will instruct CBP to assess antidumping duties on any such entries during the POR at the “all others” rate of 22.89 percent. The Department will issue appropriate appraisement instructions directly to CBP within fifteen days of publication of the final results of review.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

Administrative Protective Duties

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

We are issuing this notice in accordance with sections 751(a)(1) and 777(I)(1) of the Act and 19 CFR 351.213(d).

Dated: September 2, 2004.
James J. Jochum,
Assistant Secretary for Import Administration

[FR Doc. 04-20462 Filed 9-8-04; 8:45 am]

BILLING CODE 3510-DS-M